NUCLEAR REGULATORY COMMISSION

[Docket No. 52-033; NRC-2008-0566]

Detroit Edison Company; Notice of Availability of Errata Sheet for the Draft Environmental Impact Statement for a Combined License for Unit 3 at the Enrico Fermi Atomic Power Plant Site

Notice is hereby given that the U.S. Nuclear Regulatory Commission (NRC) and the U.S. Army Corps of Engineers, Detroit District, is providing an errata sheet for NUREG-2105, “Draft Environmental Impact Statement (DEIS) for the Combined License (COL) for Enrico Fermi Unit 3.” The site is located in Monroe County, Michigan. An NRC notice of availability (NOA) of the DEIS was published in the Federal Register on October 28, 2011 (76 FR 66998). The U.S. Environmental Protection Agency's NOA was also published on October 28, 2011 (76 FR 66925).

The purpose of this notice is to inform the public of the contents of the errata sheet for NUREG-2105, Volume 1. The content of the errata sheet is provided below:

In DEIS Chapter 8, Page 8-23, after the first full paragraph (i.e., after line 15), insert the following table:

Table 8-8—Summary of MPSC Plan 2025 Need for Power in the Southeast Michigan Area
| Component | 2025 (MW)
A | Total Peak Summer Demand | 16,253
B | Baseline Supply of Electricity (2005 data) | 12,922
C | Loss in Generating Capacity Due to Projected Retirements | (2039)
D | Net Supply of Electricity in 2025 (B + C) | 10,883
E | Surplus (Deficit) in 2025 Generating Capacity Needs (D − A) | (5370)
F | Fermi 3 Net Generating Capacity | 1535
G | Surplus (Deficit) in 2025 Generating Capacity with Fermi 3 (E + F) | (3835)
Source: MPSC Plan Appendix—Volume II (MPSC 2007).

For Further Information Contact: Mr. Bruce Olson, Project manager, Environmental Projects Branch 2, Division of New Reactor Licensing, Office of New Reactors, U.S. Nuclear Regulatory Commission, Washington, DC 20555-0001. Telephone: (301) 415-3731; email: Bruce.Olson@nrc.gov.

Dated at Rockville, Maryland, this 7th day of December, 2011.
For the Nuclear Regulatory Commission.
David Matthews,
Director, Division of New Reactor Licensing, Office of New Reactors.

[FR Doc. 2011-32070 Filed 12-13-11; 8:45 am]

BILLING CODE 7590-01-P